DEPARTMENT OF HOUSING AND URBAN DEVELOPMENT

[Docket No. FR-5603-N-33]

Notice of Submission of Proposed Information Collection to OMB; Rural Housing Stability Program Registration

AGENCY: Office of the Chief Information Officer, HUD.

ACTION: Notice.

SUMMARY: The proposed information collection requirement described below has been submitted to the Office of Management and Budget (OMB) for review, as required by the Paperwork Reduction Act. The Department is soliciting public comments on the subject proposal.

This submission is to request a new collection for the reporting burden associated with registration requirements that Rural Housing Stability Program (RHSP) applicants will be expected to complete prior to actual application. This submission is limited to the reporting burden under the RHSP program, created through the HEARTH Act. The statutory provisions and the implementing interim regulations that govern RHSP require these registration data elements.

DATES: Comments Due Date: June 25, 2012.

ADDRESSES: Interested persons are invited to submit comments regarding this proposal. Comments should refer to the proposal by name and/or OMB approval Number (2506-New) and should be sent to: HUD Desk Officer, Office of Management and Budget, New Executive Office Building, Washington, DC 20503; fax: 202-395-5806. Email: OIRA_Submission@omb.epo.gov fax: 202-395-5806.

FOR FURTHER INFORMATION CONTACT: Colette Pollard, Reports Management Officer, QDAM, Department of Housing and Urban Development, 451 Seventh Street SW., Washington, DC 20410; email Colette Pollard at Colette.Pollard@hud.gov or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Rural Housing Stability Program Registration.

OMB Approval Number: 2506-New.

Form Numbers: None.

Description of the Need for the Information and Its Proposed Use: This submission is to request a new collection for the reporting burden associated with registration requirements that Rural Housing Stability Program (RHSP) applicants will be expected to complete prior to actual application. This submission is limited to the reporting burden under the RHSP program, created through the HEARTH Act. The statutory provisions and the implementing interim regulations that govern RHSP require these registration data elements.

Estimation of the total number of hours needed to prepare the information collection including number of respondents, frequency of response, and hours of response: Approximately 230 rural counties, deemed eligible by HUD, will complete the RHSP Registration which will require approximately 1 hour to complete. The registration will occur once per year prior to the release of the annual RHSP Notice of Funding Availability. The approximate total number of hours needed for all applicants reporting per year is 230 hours

Status: New collection.

Authority: Section 3507 of the Paperwork Reduction Act of 1995, 44 U.S.C. 35, as amended.

Dated: May 17, 2012.
Colette Pollard,
Departmental Reports Management Officer, Office of the Chief Information Officer.

[FR Doc. 2012-12841 Filed 5-24-12; 8:45 am]

BILLING CODE 4210-67-P